DEPARTMENT OF ENERGY

Federal Energy Regulatory Commission

Combined Notice of Filings #1

Take notice that the Commission received the following electric rate filings:

Docket Numbers: ER10-2290-003.

Applicants: Avista Corporation.

Description: Notice of Non-Material Change of Status.

Filed Date: 7/11/14.

Accession Number: 20140711-5029.

Comments Due: 5 p.m. ET 8/1/14.

Docket Numbers: ER14-485-002.

Applicants: Tucson Electric Power Company.

Description: TEP Order No. 784 Correction Filing 2 to be effective 1/27/2014.

Filed Date: 7/11/14.

Accession Number: 20140711-5047.

Comments Due: 5 p.m. ET 8/1/14.

Docket Numbers: ER14-1639-002.

Applicants: ISO New England Inc.

Description: Demand Curve Compliance Filing to be effective N/A.

Filed Date: 7/11/14.

Accession Number: 20140711-5027.

Comments Due: 5 p.m. ET 8/1/14.

Docket Numbers: ER14-2400-000.

Applicants: Western Massachusetts Electric Company, ISO New England Inc.

Description: Berkshire Wind Power Cooperative Corp SGIA to be effective 6/23/2014.

Filed Date: 7/11/14.

Accession Number: 20140711-5073.

Comments Due: 5 p.m. ET 8/1/14.

Docket Numbers: ER14-2401-000.

Applicants: Kansas City Power & Light Company.

Description: Kansas City Power & Light Company submits tariff filing per 35.13(a)(2)(iii: KCP&L Rate Schedule 139 Filing to be effective 12/31/9998.

Filed Date: 7/11/14.

Accession Number: 20140711-5075.

Comments Due: 5 p.m. ET 8/1/14.

Docket Numbers: ER14-2402-000.

Applicants: PJM Interconnection, L.L.C.

Description: Queue Position Y3-087, Original Service Agreement No. 3878 to be effective 6/11/2014.

Filed Date: 7/11/14.

Accession Number: 20140711-5088.

Comments Due: 5 p.m. ET 8/1/14.

Docket Numbers: ER14-2403-000.

Applicants: PacifiCorp.

Description: OATT Revisions to Part V Small Gen IC Agmts & Procedures (Order 792) to be effective 7/11/2014.

Filed Date: 7/11/14.

Accession Number: 20140711-5113.

Comments Due: 5 p.m. ET 8/1/14.

Docket Numbers: ER14-2404-000.

Applicants: New York State Electric & Gas Corporation.

Description: Rate Schedule FERC No 193 to be effective 8/1/2014.

Filed Date: 7/11/14.

Accession Number: 20140711-5128.

Comments Due: 5 p.m. ET 8/1/14.

Docket Numbers: ER14-2405-000.

Applicants: New York State Electric & Gas Corporation.

Description: Rate Schedule FERC No 194 to be effective 8/1/2014.

Filed Date: 7/11/14.

Accession Number: 20140711-5129.

Comments Due: 5 p.m. ET 8/1/14.

Docket Numbers: ER14-2406-000.

Applicants: New York Independent System Operator, Inc., Niagara Mohawk Power Corporation.

Description: TO 205 filing between NiMo and WM Renewables Energy to be effective 6/2/2014.

Filed Date: 7/11/14.

Accession Number: 20140711-5130.

Comments Due: 5 p.m. ET 8/1/14.

Docket Numbers: ER14-2407-000.

Applicants: ISO New England Inc., New England Power Pool Participants Committee.

Description: ISO New England Inc. submits tariff filing per 35.13(a)(2)(iii): Winter 2014-15 Reliability Program (Part 1 of 2) to be effective 9/9/2014.

Filed Date: 7/11/14.

Accession Number: 20140711-5134.

Comments Due: 5 p.m. ET 8/1/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 11, 2014.
Nathaniel J. Davis, Sr.,
Deputy Secretary.

[FR Doc. 2014-16983 Filed 7-18-14; 8:45 am]

BILLING CODE 6717-01-P